DEPARTMENT OF HOMELAND SECURITY

Federal Emergency Management Agency

44 CFR Part 67

[Docket No. FEMA-B-7472]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. * Elevation in feet (NGVD) + Elevation in feet (NAVD): Existing | # Depth in feet above ground. * Elevation in feet (NGVD) + Elevation in feet (NAVD): Modified
Town of North Canaan, Connecticut
Connecticut | Town of North Canaan | Blackberry River | Approximately 700 feet downstream of Route 44 | None | +656
|  |  | Approximately 1,050 feet upstream of Route 7 | None | +672
* National Geodetic Vertical Datum.
# Depth in feet above ground.
+ North American Vertical Datum.
ADDRESSES
Maps are available for inspection at Town Hall, 100 Pease Street, Canaan, Connecticut 06018.
Send comments to Ms. Ruth Mulcahy, Zoning Enforcement Officer, Town of North Canaan, Town Hall, P.O. Box 876, Canaan, CT 06018.
Town of Whitehall, Montana
Montana | Town of Whitehall | Whitetail Creek | Approximately 1.98 miles downstream of Highway 55 | None | +4,333
|  |  | Approximately 1.1 miles upstream of Interstate 90 West Bound | None | +4,386
* National Geodetic Vertical Datum.
# Depth in feet above ground.
+ North American Vertical Datum.
ADDRESSES
Maps are available for inspection at: Town Hall, 2 North Whitehall, Whitehall, MT.
Send comments to: The Honorable Terry Ross, Mayor, City of Whitehall, P.O. Box 529, Whitehall, Montana 59759.

Flooding sources(s) | Location of referenced elevation | *Elevation in feet (NGVD) + Elevation in feet (NAVD) # Depth in feet above ground: Effective | *Elevation in feet (NGVD) + Elevation in feet (NAVD) # Depth in feet above ground: Modified | Communities affected
Marengo County, Alabama, and Incorporated Areas
Falling Creek | Approximately 3250 feet downstream of Whitfield Canal | None | +150 | City of Demopolis.
| Approximately 500 feet downstream of Whitfield Canal | None | +154
Tombigbee River | Demopolis Lock and Dam | None | +94 | City of Demopolis.
| Confluence with Short Creek | None | +94
* National Geodetic Vertical Datum.
# Depth in feet above ground.
+ North American Vertical Datum.
ADDRESSES
City of Demopolis
Maps are available for inspection at 211 N. Walnut Avenue, Demopolis, AL 36732.
Send comments to Cecil Williamson, Mayor, City of Demopolis, 211 N. Walnut Avenue, Demopolis, AL 36732.
Washington County, Arkansas, and Incorporated Areas
Brush Creek | At intersection with Interstate 540 | *1303 | +1304 | City of Springdale.
| Approximately 150 feet downstream of Gutensohn | *1336 | +1334
Brush Creek Tributary | Approximately 125 feet upstream of Force-Main Crossing | *1321 | +1317 | City of Springdale.
| At intersection with Gutensohn Road | *1329 | +1326
Mud Creek | Approximately 50 feet upstream of Gregg Street | *1182 | +1183 | City of Fayetteville.
| At intersection with College Avenue | *1196 | +1203 | City of Johnson.
West Fork White River | Approximately 0.5 miles upstream from confluence with White River | *1169 | +1173 | City of Fayetteville.
| Approximately 1500 feet downstream from the intersection with Harvey Owl Road | *1172 | +1173
* National Geodetic Vertical Datum.
# Depth in feet above ground.
+ North American Vertical Datum.
ADDRESSES
City of Fayetteville
Maps are available for inspection at 113 West Mountain, Fayetteville, AR 72701.
Send comments to The Honorable Dan Coody, Mayor, City of Fayetteville, 113 West Mountain, Fayetteville, AR 72701.
City of Johnson
Maps are available for inspection at 2904 Main Dr., Johnson, AR 72741.
Send comments to The Honorable Richard Long, Mayor, The City of Johnson, 2904 Main Dr., PO Box 563, Johnson, AR 72741.
City of Springdale
Maps are available for inspection at 201 North Spring Street, Springdale, AR 72764.
Send comments to The Honorable Jerre Van Hoose, Mayor, City of Springdale, 201 North Spring Street, Springdale, AR 72764.
Sutter County, California, and Incorporated Areas
Bear River | Approximately 0.9 miles upstream of the confluence with Feather River | None | *54 | Sutter County.
| At Wheatland Road | None | *96
Feather River | At the confluence with Sacramento River | None | *40 | Sutter County.
| Approximately 1.5 miles upstream of Bogue Road | None | *72
Yankee Slough | At the confluence with Bear River | None | *58 | Sutter County.
| Approximately 1.1 miles upstream of Brewer Road | None | *75
* National Geodetic Vertical Datum.
# Depth in feet above ground.
+ North American Vertical Datum.
ADDRESSES
Sutter County
Maps are available for inspection at the Sutter County Administrators Office, 1160 Civic Center Boulevard, Suite A, Yuba City, California 95993.
Send comments to Mr. Larry Combs, Sutter County Executive Officer, 1160 Civic Center Boulevard, Suite A, Yuba City, Calfornia 95993.
Yuba County, California, and Incorporated Areas
Bear River | At the confluence with Feather River | None | *53 | Yuba County.
| Approximately 1.0 mile upstream of the confluence of Dry Creek | None | *69
Best Slough | At the confluence with Western Pacific Interceptor Channel | None | *61 | Yuba County.
| Approximately 1.2 miles upstream of the confluence with Western Pacific Interceptor Channel | None | *61
Dry Creek | At the confluence with Bear River | None | *66 | Yuba County.
| Just Downstream of Highway 65 | None | *67
Feather River | Approximately 1.5 miles downstream of the confluence of Bear River | None | *52 | Yuba County.
| Approximately 0.9 miles upstream of Island Avenue | None | *72
Western Pacific Interceptor Channel | At the confluence with Bear River | None | *60 | Yuba County.
| Approximately 2.7 miles upstream of the confluence of Best Slough | None | *61
* National Geodetic Vertical Datum.
# Depth in feet above ground.
+ North American Vertical Datum.
ADDRESSES
Yuba County
Maps are available for inspection at the Yuba County Government Center, Administrators Office, 915 Eighth Street, Suite 115, Marysville, CA 95901.
Send comments to Mr. Robert Bendorf, Chief County Administrator, 915 Eighth Street, Suite 115, Marysville, CA 95901.
Columbia County, Georgia, and Incorporated Areas
Bonaire Heights Tributary | At the confluence with Wynngate Tributary | +271 | +272 | Columbia County (Unincorporated Areas).
| Approximately 375 feet upstream of the confluence with Wynngate Tributary | +271 | +272
Furys Ferry Road Tributary East | At the confluence with Reed Creek | +211 | +210 | Columbia County (Unincorporated Areas).
| Approximately 100 feet upstream of the confluence with Reed Creek | +211 | +210
Gibbs Road Tributary | At the confluence with Bettys Branch | +290 | +291 | Columbia County (Unincorporated Areas).
| Approximately 130 feet upstream of the confluence with Bettys Branch | +290 | +291
Holiday Park Tributary | At the confluence with Reed Creek | +300 | +301 | Columbia County (Unincorporated Areas).
| Approximately 1,450 feet upstream of the confluence with Reed Creek | +300 | +301
Jones Creek | At the confluence with Savannah River | +192 | +193 | Columbia County (Unincorporated Areas).
| Approximately 3,290 feet upstream of the confluence with Savannah River | +192 | +193
Tributary No. 2 | At the confluence with Jones Creek | +258 | +259 | Columbia County (Unincorporated Areas).
| Approximately 70 feet upstream of the confluence with Jones Creek | +258 | +259
Tributary No. 3 | At the confluence with Jones Creek | +270 | +269 | Columbia County (Unincorporated Areas).
| Approximately 20 feet upstream of the confluence with Jones Creek | +270 | +269
Owens Road Tributary | At the confluence with Holiday Park Tributary | +321 | +322 | Columbia County (Unincorporated Areas).
| Approximately 210 feet upstream of the confluence with Holiday Park Tributary | +321 | +322
Seaboard Railroad Tributary | At the confluence with Jones Creek | +226 | +225 | Columbia County (Unincorporated Areas).
| Approximately 300 feet upstream of the confluence with Jones Creek | +226 | +227
Watery Branch Tributary | At the confluence with Watery Branch | +196 | +197 | Columbia County (Unincorporated Areas).
| Approximately 10 feet upstream of the confluence with Watery Branch | +196 | +197
Westhampton Tributary No. 1 | At the confluence with Bowen Pond Tributary | +248 | +249 | Columbia County (Unincorporated Areas).
| Approximately 75 feet upstream of the confluence with Bowen Pond Tributary | +248 | +249
Tributary No. 2 | At the confluence with Bowen Pond Tributary | +259 | +258 | Columbia County (Unincorporated Areas).
| Approximately 20 feet upstream of the confluence with Bowen Pond Tributary | +259 | +258
Tributary No. 3 | At the confluence with Bowen Pond Tributary | +270 | +269 | Columbia County (Unincorporated Areas).
| Approximately 70 feet upstream of the confluence with Bowen Pond Tributary | +270 | +269
* National Geodetic Vertical Datum.
# Depth in feet above ground.
+ North American Vertical Datum 1.
¹ The existing elevation data included on the effective FIRM is printed in the elevation datum of the National Geodetic Vertical Datum of 1929 (NGVD29). In order to convert this printed elevation data from the NGVD29 datum to the NAVD88 datum, please subtract 0.68.
ADDRESSES
Columbia County, Georgia
Maps are available for inspection at the Community Map Repository, Engineering & Environmental Services Division, P.O. Box 498, 630 Ronald Reagan Drive, Building A, Evans, GA 30809.
Send comments to The Honorable Ron C. Cross, Chairman, Columbia County Board of Commissioners, P.O. Box 498, 630 Ronald Reagan Drive, Building B, Evans, GA 30809.
Clark County, Illinois, and Incorporated Areas
East Mill Creek Reservoir |  | None | +560 | Clark County (Unincorporated Areas).
Mill Creek Lake | From Clarksville Road Bridge south to dam (Mill Creek Watershed Structure No. 1) | None | +616 | Clark County (Unincorporated Areas).
Lincoln Trail State Park Lake |  | None | +547 | Clark County (Unincorporated Areas).
* National Geodetic Vertical Datum.
# Depth in feet above ground.
+ North American Vertical Datum.
ADDRESSES
Clark County, Illinois (Unincorporated Areas)
Maps are available for inspection at the Clark County Clerk's Office. Clark County Courthouse, 501 Archer Ave., Marshall, IL 62441.
Send comments to The Honorable William Weaver, County Board Chairman, Clark County Courthouse, 501 Archer Ave., Marshall, IL 62441.
Flathead County, Montana, and Incorporated Areas
Ashley Creek | Just downstream of Cemetery Road | None | +2920 | Flathead County (Uninc. Areas) and City of Kalispell.
| Approximately 150 feet downstream of Airport Road | +2925 | +2929
| Approximately 250 feet upstream of Burlington Northern Railroad | +2943 | +2942
* National Geodetic Vertical Datum.
# Depth in feet above ground.
+ North American Vertical Datum.
ADDRESSES
Unincorporated Areas Flathead County
Maps are available for inspection at the Flathead County Library, 247 First Ave. East, Kalispell, Montana 59901 and at the Flathead County Planning and Zoning Office, 1035 First Ave. West, Kalispell, Montana 59901.
Send comments to the Honorable Robert Watne, Chair, Flathead County Board of Commissioners, 800 South Main, Kalispell, Montana 59901.
City of Kalispell
Maps are available for inspection at the City of Kalispell Planning Department, 17 Second St. East, Suite 211, Kalispell, Montana 59901.
Send comments to the Honorable Pamela Kennedy, Mayor, City of Kalispell, P.O. Box 1997, Kalispell, Montana 59903.

(Catalogue of Federal Domestic Assistance No. 83.100, “Flood Insurance.”)

Dated: October 27, 2006.
David I. Maurstad,
Director, Mitigation Division, Federal Emergency Management Agency, Department of Homeland Security.

[FR Doc. E6-18572 Filed 11-2-06; 8:45 am]

BILLING CODE 9110-12-P